DEPARTMENT OF TRANSPORTATION

Federal Railroad Administration

Petition for Waiver of Compliance

In accordance with part 211 of Title 49 Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief.

San Francisco Municipal Railway Department

[Waiver Petition Docket Number FRA-2003-15988]

San Francisco Municipal Railway Department (MUNI) located in San Francisco, California, seeks a permanent waiver of compliance from Title 49 of the CFR for operation of an extension of an existing light rail line at a “limited connection” with two existing Union Pacific Railroad (UPRR) industry lead tracks. See Statement of Agency Policy Concerning Jurisdiction Over the Safety of Railroad Passenger Operations and Waivers Related to Shared Use of the Tracks of the General Railroad System by Light Rail and Conventional Equipment, 65 FR 42529 (July 10, 2000). See also Joint Statement of Agency Policy Concerning Shared Use of the Tracks of the General Railroad System by Conventional Railroads and Light Rail Transit Systems, 65 FR 42626 (July 10, 2000).

In regards to this, MUNI plans to construct its 5.4 mile double-track Third Street Light Rail Project, which is an extension of the City's existing 35 mile light rail system, crossing two existing single-track freight railroad (UPRR) industry lead tracks via at grade rail-crossings. MUNI is a light rail transit operation and except for these minor crossing connections, will not share track or any connection to the general system. MUNI has agreed to a long-term lease with UPRR to operate and maintain the respective shared crossings and interlockings in accordance with FRA standards. MUNI is seeking a permanent waiver of compliance from certain CFR parts of title 49, specifically Part 223 Safety Glazing Standards-Locomotives, Passenger Cars and Cabooses Part 238 Passenger Equipment Safety Standards, and part 219 Control of Alcohol & Drug Use (as a light rail operation, MUNI adheres to an accepted drug policy established by the FTA).

Since FRA has not yet completed its investigation of MUNI's petition, the agency takes no position at this time on the merits of MUNI's stated justifications. As part of FRA's review of the petition, the Federal Transit Administration will appoint a representative to advise FRA's Safety Board to participate in the board's consideration of MUNI's waiver petition.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2003-15988) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on September 24, 2003.
Grady C. Cothen, Jr.,
Deputy Associate Administrator for Safety Standards and Program Development.

[FR Doc. 03-24744 Filed 9-29-03; 8:45 am]

BILLING CODE 4910-06-P